DEPARTMENT OF HEALTH AND HUMAN SERVICES

Centers for Disease Control and Prevention

42 CFR Part 71

RIN 0920-AA03

Foreign Quarantine Regulations, Proposed Revision of HHS/CDC Animal-Importation Regulations

AGENCY: Centers for Disease Control and Prevention (CDC), Department of Health and Human Services (HHS).

ACTION: Advance notice of proposed rulemaking; extension of public comment period.

SUMMARY: On July 31, 2007, CDC published an advanced notice of proposed rulemaking (ANPRM), “Foreign Quarantine regulations, Proposed Revision of HHS/CDC Animal-Importation Regulations,” (72 FR 41676) to begin the process of revising HHS/CDC Animal Importation Regulations that cover dogs and cats (42 CFR 71.51), and to consider extending these regulations to cover domesticated ferrets. The ANPRM will also address the importation of African rodents (42 CFR 71.56) into the United States. HHS/CDC is also considering the need for additional regulations to prevent the introduction of zoonotic diseases into the United States. CDC provided a 60-day pubic comment period, with written comments to be received on or before October 1, 2007. CC has received requests asking for an extension of the comment period. In consideration of these requests, CDC is extending the comment period an additional 60 days, with a new closing date of December 1, 2007.

DATES: Written comments on the advance notice of proposed revision of HHS/CDC Animal Importation Regulations must be submitted on or before December 1, 2007. Please refer to SUPPLEMENTARY INFORMATION for additional information.

ADDRESSES: Written comments may submitted to the following address: U.S. Department of Health and Human Services, Centers for Disease Control and Prevention, Division of Global Migration and Quarantine, ATTN: Animal Importation Regulations, 1600 Clifton Road, NE., (E03), Atlanta, GA 30333. Comments will be available for public inspection Monday through Friday, except for legal holidays, from 9 a.m. until 5 p.m. at 1600 Clifton Road, NE., Atlanta, GA 30333. Please call ahead to 1-866-694-4867 and ask for a representative in the Division of Global Migration and Quarantine to schedule your visit.

Written comments may also be submitted electronically via the Internet at http://www.regulations.gov or via e-mail to animalimportcomments@cdc.gov. Electronic comments may be viewed at http://www.cdc.gov/publiccomments/.

An electronic copy of the rule can be found at: http://www.regulations.gov.

FOR FURTHER INFORMATION CONTACT: Robert Mullan, M.D., Centers for Disease Control and Prevention, Division of Global Migration and Quarantine, (404) 639-4537.

SUPPLEMENTARY INFORMATION: On July 31, 2007, CDC published an advanced notice of proposed rulemaking (ANPRM), “Foreign Quarantine Regulations, Proposed Revision of HHS/CDC Animal-Importation Regulations” (72 FR 41676). In that Federal Register Notice, CDC provided a 60-day public comment period. Written comments were to be received on or before October 1, 2007. Since the Notice was published, CDC has received requests asking for an extension of the public comment period beyond the 60 days originally provided. These requests have been made by national groups that represent organizations that will be affected by the proposed rule. In consideration of these concerns, CDC is extending the comment period by 60 days (until December 1, 2007) to give all interested organizations and persons the opportunity to comment fully.

Commenters should be aware that CDC's general policy for comments and other submissions from members of the public is to make these submissions available for public viewing on the Internet as they are received and without change, including any personal identifiers or contact information.

CDC has posted the ANPRM and related materials on its Web site at http://www.cdc.gov/ncidod.dq.

Dated: September 20, 2007.
Michael O. Leavitt,
Secretary.

[FR Doc. 07-4852 Filed 9-27-07; 12:07 pm]

BILLING CODE 4163-18-M